NATIONAL AERONAUTICS AND SPACE ADMINISTRATION

[Notice 07-052]

NASA Advisory Council; Science Committee; Planetary Protection Subcommittee; Meeting

AGENCY: National Aeronautics and Space Administration.

ACTION: Notice of meeting.

SUMMARY: The National Aeronautics and Space Administration (NASA) announces a meeting of the Planetary Protection Subcommittee of the NASA Advisory Council (NAC). This Subcommittee reports to the Science Committee of the NAC. The Meeting will be held for the purpose of soliciting from the scientific community and other persons scientific and technical information relevant to program planning.

DATES: Monday, August 6, 2007, 8:30 a.m. to 5 p.m. and Tuesday, August 7, 2007, 8:30 a.m. to 2 p.m. Eastern Daylight Time.

ADDRESSES: Doubletree Hotel Cocoa Beach, 2080 North Atlantic Avenue, Cocoa Beach, FL 32931.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Status of NASA Planetary Exploration Activities

—Status of Concept Studies for Outer Planet Missions

—Mission Implementation of Planetary Protection Requirements

—Planetary Protection Requirements for Human Missions Beyond Earth Orbit

It is imperative that the meeting be held on these dates to accommodate the scheduling priorities of the key participants. Attendees will be requested to sign a register.

Dated: July 10, 2007.
P. Diane Rausch,
Advisory Committee Management Officer, National Aeronautics and Space Administration.

[FR Doc. E7-14111 Filed 7-20-07; 8:45 am]

BILLING CODE 7510-13-P